COMMITTEE FOR PURCHASE FROM PEOPLE WHO ARE BLIND OR SEVERELY DISABLED

Procurement List; Redesignation of Services

AGENCY: Committee for Purchase from People Who Are Blind or Severely Disabled.

ACTION: Redesignation of procurement list services.

SUMMARY: This notice redesignates services on the Procurement List which will be procured on a consolidated basis rather than individually. These services are being performed for the Department of the Navy in the Puget Sound area. Comments on this redesignation must be received by August 3, 2003.

EFFECTIVE DATE: July 3, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: The following services are on the Procurement List to be performed by the designated nonprofit agencies for the Department of the Navy activities identified below:

Service Type/Location: Grounds Maintenance, Whidbey Island Naval Air Station, Oak Harbor, Washington.

NPA: New Leaf, Inc., Oak Harbor, Washington.

Contract Activity: Department of the Navy.

Service Type/Location: Grounds Maintenance, Puget Sound Naval Shipyard, Bremerton, Washington.

NPA: Peninsula Services, Bremerton, Washington.

Contract Activity: Department of the Navy.

Service Type/Location: Grounds Maintenance, Keyport Naval Undersea Warfare Center, Keyport, Washington.

NPA: Peninsula Services, Bremerton, Washington.

Contract Activity: Department of the Navy.

Service Type/Location: Grounds Maintenance, Fox Island Acoustic Laboratory, Fox Island, Washington.

NPA: Peninsula Services, Bremerton, Washington.

Contract Activity: Department of the Navy.

Service Type/Location: Grounds Maintenance, Janitorial/Custodial, Grounds Maintenance, Mess Attendant (The Grounds Maintenance Portion of this project will be consolidated October 1, 2003), Naval Station Everett, Everett, Washington.

NPA: Northwest Center for the Retarded, Seattle, Washington.

Contract Activity: Department of the Navy.

Service Type/Location: Grounds Maintenance, Naval Ordnance Center, Pacific Division, Detachment Port Hadlock, Port Hadlock, Washington.

NPA: Skookum Education Programs, Port Townsend, Washington.

Contract Activity: Department of the Navy.

The above services will be procured by the Department of the Navy on a consolidated basis and are thus being redesignated collectively on the Procurement List as set forth below, and the nonprofit agency identified below has been designated as the qualified nonprofit agency which will serve as prime contractor for the consolidated services. The services identified above will remain on the Procurement List for performance by the above-designated nonprofit agencies.

Service Type/Location: Facility Support Services, Various locations in the Navy Region Northwest.

NPA: Skookum Educational Programs, Port Townsend, Washington.

Contract Activity: Engineering Field Activity, Naval Facilities Engineering Command, Department of the Navy, Poulsboro, Washington.

Sheryl D. Kennerly,
Director, Information Management.

[FR Doc. 03-16947 Filed 7-2-03; 8:45 am]

BILLING CODE 6353-01-P